NUCLEAR REGULATORY COMMISSION

[Docket No. 40-3392-MLA; ASLBP No. 11-910-01-MLA-BD01]

Atomic Safety and Licensing Board; Honeywell International, Inc.; Metropolis Works Uranium Conversion Facility; Notice of Hearing

September 13, 2011.

Before Administrative Judges: Paul S. Ryerson, Chairman; E. Roy Hawkens; Paul B. Abramson.

On July 27, 2011, the Board granted ¹ Honeywell International, Inc.'s (Honeywell) request for a hearing ² concerning a NRC Staff decision ³ denying Honeywell's license amendment request for the use of an alternate method for demonstrating decommissioning funding assurance for its Metropolis Works uranium conversion facility in Metropolis, Illinois.

¹ LBP-11-19, 74 NRC _ , _ (slip op. at 4) (July 27, 2011).

² Request for Hearing on Denial of Decommissioning License Amendment Request (June 22, 2011).

³ Letter from U.S. Nuclear Regulatory Commission to Honeywell International, Inc., Denial of Exemption Request from 10 CFR part 30, Appendix C, Regarding Decommissioning Financial Assurance Requirements, Honeywell Metropolis Works, Material License No. SUB-526 (TAC No. L32718) (Dec. 11, 2009) (ADAMS Accession No. ML093170604).

Accordingly, the Board will conduct an evidentiary hearing on Honeywell's request beginning at 9 a.m. Eastern Standard Time (E.S.T.) on Thursday, December 15, 2011 in the Atomic and Safety Licensing Board Panel's Hearing Room, located on the third floor of Two White Flint North, 11545 Rockville Pike, Rockville, Maryland 20352. The hearing will resume at 9 a.m. E.S.T. on Friday, December 16, 2011, if necessary.

The Board intends to conduct a conference call with the parties at a later date to discuss further administrative details concerning the hearing.

It is so ordered.

For the Atomic Safety and Licensing Board.
Dated: September 13, 2011 in Rockville, Maryland.
Paul S. Ryerson,
Chairman, Administrative Judge.

[FR Doc. 2011-23939 Filed 9-16-11; 8:45 am]

BILLING CODE 7590-01-P